DEPARTMENT OF ENERGY

Federal Energy Regulatory Commission

[Project No. 2459-279]

Lake Lynn Generation, LLC: Notice of Revised Procedural Schedule for Environmental Assessment for the Proposed Project Relicense

On November 30, 2022, Lake Lynn Generation, LLC (Lake Lynn Generation) filed an application for a new license to continue to operate and maintain the 51.2-megawatt Lake Lynn Hydroelectric Project No. 2459 (Lake Lynn Project). On March 5, 2025, Commission staff issued a notice of intent to prepare an environmental assessment (EA) to evaluate the effects of relicensing the Lake Lynn Project. The notice included an anticipated schedule for issuing the EA in September 2025.

Staff is still evaluating the effects of relicensing the Lake Lynn Project. In order for staff to fully consider all the information filed by Lake Lynn Generation, the procedural schedule for completing the EA is being revised as follows. Further revisions to the schedule may be made as appropriate.

Milestone | Target date
Issue EA | January 30, 2026.

Any questions regarding this notice may be directed to Allan Creamer at (202) 502-8365, or by email at allan.creamer@ferc.gov.

(Authority: 18 CFR 2.1.)

Dated: September 23, 2025.
Carlos D. Clay,
Deputy Secretary.

[FR Doc. 2025-18735 Filed 9-25-25; 8:45 am]

BILLING CODE 6717-01-P